DEPARTMENT OF HEALTH AND HUMAN SERVICES

Food and Drug Administration

21 CFR Part 131

[Docket No. FDA-2000-P-0126 (formerly Docket No. 2000P-0658)]

International Dairy Foods Association: Response to the Objections and Requests for a Public Hearing on the Final Rule To Revoke the Standards for Lowfat Yogurt and Nonfat Yogurt and Amend the Standard for Yogurt; Correction

AGENCY: Food and Drug Administration, HHS.

ACTION: Final order; response to objections and denial of public hearing requests; removal of administrative stay; final amendment; correction.

SUMMARY: The Food and Drug Administration (FDA or we) is correcting a final order that appeared in the Federal Register on April 14, 2023. The document responded to objections and requests for a public hearing on the final rule to revoke the standards for lowfat yogurt and nonfat yogurt and amend the standard for yogurt. The final order published with an inadvertent error. This document corrects that error.

DATES: Effective May 18, 2023.

FOR FURTHER INFORMATION CONTACT: Andrea Krause, Center for Food Safety and Applied Nutrition (HFS-820), Food and Drug Administration, 5001 Campus Dr., College Park, MD 20740, 240-402-2371, or Holli Kubicki, Center for Food Safety and Applied Nutrition, Office of Regulations and Policy (HFS-024), Food and Drug Administration, 5001 Campus Dr., College Park, MD 20740, 240-402-2378.

SUPPLEMENTARY INFORMATION:

Correction

In the Federal Register of April 14, 2023 (88 FR 22907), in FR Doc. 2023-07723, the following correction is made:

On page 22908, in the first column, under DATES, the compliance date is corrected to read: “January 1, 2024”.

Dated: May 15, 2023.
Lauren K. Roth,
Associate Commissioner for Policy.

[FR Doc. 2023-10606 Filed 5-17-23; 8:45 am]

BILLING CODE 4164-01-P